DEPARTMENT OF DEFENSE

Defense Acquisition Regulations System

48 CFR Parts 235 and 252

[Docket DARS-2024-0027]

RIN 0750-AL43

Defense Federal Acquisition Regulation Supplement: Public Access to Results of Federally Funded Research (DFARS Case 2020-D028)

AGENCY: Defense Acquisition Regulations System, Department of Defense (DoD).

ACTION: Proposed rule; withdrawal.

SUMMARY: DoD is withdrawing the proposed rule to amend the Defense Federal Acquisition Regulation Supplement (DFARS) for the case titled: Public Access to Results of Federally Funded Research (DFARS Case 2020-D028). DoD has determined that the proposed rule's objectives of improving public access to research results are sufficiently addressed in existing policy and regulation, and do not require implementation in the DFARS. Accordingly, this proposed rule is withdrawn, and the DFARS case is closed.

DATES: The proposed rule published on September 26, 2024, at 89 FR 79003 is withdrawn as of July 18, 2025.

FOR FURTHER INFORMATION CONTACT: Saleemah McMillan, telephone 202-308-5383.

SUPPLEMENTARY INFORMATION: DoD published a proposed rule in the Federal Register on September 26, 2024, at 89 FR 79003 to implement a recommendation made by the Government Accountability Office (GAO) in its report GAO-20-81, Additional Actions Needed to Improve Public Access to Research Results, published in November 2019. GAO recommended increasing public access to Federally funded research results, including publications and data, as called for in a 2013 Office of Science and Technology Policy memorandum. In this report, GAO recommended that DoD take steps to ensure appropriate agency-funded research data are readily findable and accessible to the public.

DoD has determined that the proposed rule's objective of improving public access to research results is sufficiently addressed in existing policy and regulation. Therefore, implementation in the DFARS is not necessary, and the proposed rule is withdrawn.

List of Subjects in 48 CFR Parts 235 and 252

Government procurement.

Jennifer D. Johnson,
Editor/Publisher, Defense Acquisition Regulations System.

[FR Doc. 2025-13521 Filed 7-17-25; 8:45 am]

BILLING CODE 6001-FR-P